DEPARTMENT OF JUSTICE

Notice of Filing of Agreed Order Under 28 CFR 50.7

Consistent with 28 CFR 50.7, notice is hereby given that on January 12, 2007, a proposed Agreed Order wtih Foamex L.P., one of the debtors in the Chapter 11 bankruptcy proceeding In re: Foamex International, Inc, et al., Chap. 11, Bankr. No. 05-12685(KG) (Jointly Administered) (Bankr. D. Del.), has been lodged with the United States Bankruptcy Court for the District of Delaware.

On March 17, 2006, the United States of America, on behalf of its Environmental Protection Agency (“EPA”) filed a Proof of Claim in the above referenced bankruptcy proceedings. The Proof of Claim asserted claims under the Comprehensive Environmental Response, Compensation, and Liability Act of 1980, as amended (“CERCLA”), 42 U.S.C. 9601 et seq., related to the Omega Chemical Corporation Superfund Site in California and for civil penalties related to alleged violations observed during a multimedia inspection of one of Foamex's facilities, located in Corry, Pennsylvania.

The Agreed Order resolves EPA's penalty claims with respect to Foamex's Corry facility in exchange for an anticipated payment of $128,560. In addition, Foamex will increase the capacity of the secondary containment for the tank truck unloading area at its Corry facility so that it is sufficient to contain 2,000 gallons. The proposed Agreed Order also provides that EPA's CERCLA claim for the Omega Site will “pass-through” the bankruptcy unaffected, to be dealt with in the reorganized Debtor's ordinary course of business.

The Department of Justice will receive for a period of thirty (30) days from the date of this publication comments relating to the Agreed Order. Comments should be addressed to the Assistant Attorney General, Environment and Natural Resources Division, and either e-mailed to pubcomment-ees.enrd@usdoj.gov or mailed to P.O. Box 7611, U.S. Department of Justice, Washington, DC 20044-7611, and should refer to In re: Foamex International Inc. (Agreed Order, DOJ Ref. No. 90-11-3-08759/1).

The Agreed Order may be examined at U.S. EPA Region 3, 1650 Arch Street, Philadelphia, PA 19103-2029 (contact Daniel Isales, Esq. (404) 562-9670). During the public comment period, the Agreed Order may also be examined on the following Department of Justice Web site, http://www.usdoj.gov/enrd/Consent_Decrees.html. A copy of the Agreed Order may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy of the Agreed Order from the Consent Decree Library, please refer to In re: Foamex International Inc. (Agreed Order, DOJ Ref. No. 90-11-3-08759/1), and enclose a check in the amount of $3.25 (25 cents per page reproduction cost) payable to the U.S. Treasury or, if by e-mail or fax, forward a check in that amount to the Consent Decree Library at the stated address.

Henry S. Friedman,
Assistant Section Chief, Environmental Enforcement Section, Environment and Natural Resources Division.

[FR Doc. 07-426 Filed 1-31-07; 8:45 am]

BILLING CODE 4410-15-M